DEPARTMENT OF HEALTH AND HUMAN SERVICES

Food and Drug Administration

21 CFR Part 870

Cardiovascular Devices

CFR Correction

In Title 21 of the Code of Federal Regulations, Parts 800 to 1299, revised as of April 1, 2016, on page 371, § 870.5800 is reinstated to read as follows:

§ 870.5800 Compressible limb sleeve.

(a) Identification. A compressible limb sleeve is a device that is used to prevent pooling of blood in a limb by inflating periodically a sleeve around the limb.

(b) Classification. Class I (performance standards).

[FR Doc. 2017-00796 Filed 1-12-17; 8:45 am]

BILLING CODE 1301-00-D